ENVIRONMENTAL PROTECTION AGENCY

[FRL-9267-4]

Reschedule—Meeting of the Local Government Advisory Committee

AGENCY: Environmental Protection Agency (EPA).

ACTION: Notice.

SUMMARY: The Local Government Advisory Committee's teleconference originally scheduled on Tuesday, February 22, 2011, 1:30-3 p.m. (ET) (76 FR 6785, published on Tuesday, February 8, 2011) is rescheduled for Wednesday, March 9, 2011, 3:30-4:30 (ET). The Committee will discuss the recommendations of the Gulf Coast Restoration Workgroup on ways EPA can engage local government officials in Gulf Coast Ecosystem restoration efforts and other issues of environmental concern to elected officials. This is an open meeting and all interested persons are invited to participate. The Committee will hear comments from the public between 3:45 p.m.-4:15 p.m. on Wednesday, March 9, 2011. Individuals or organizations wishing to address the Committee will be allowed a maximum of five minutes to present their point of view. Also, written comments should be submitted electronically to eargle.frances@epa.gov. Please contact the Designated Federal Officer (DFO) at the number or e-mail listed below to schedule agenda time. Time will be allotted on a first come first serve basis, and the total period for comments may be extended if the number of requests for appearances requires it.

ADDRESSES: The Local Government Advisory Committee meeting will be held by teleconference on Wednesday, March 9, 2011, at 3:30 p.m.-4:30 p.m. (ET). The Committee's meeting summary will be available after the meeting online at http://www.epa.gov/ocir/scas and can be obtained by written request to the DFO.

FOR FURTHER INFORMATION CONTACT: Frances Eargle, the Designated Federal Officer for the Local Government Advisory Committee (LGAC) at (202) 564-3115 or e-mail at eargle.frances@epa.gov.

Information On Services for Those with Disabilities: For information on access or services for individuals with disabilities, please contact Frances Eargle at (202) 564-3115 or eargle.frances@epa.gov. To request accommodation of a disability, please request it 10 days prior to the meeting, to give EPA as much time as possible to process your request.

Dated: February 8, 2011.
Frances Eargle,
Designated Federal Officer, Local Government Advisory Committee.

[FR Doc. 2011-3518 Filed 2-15-11; 8:45 am]

BILLING CODE 6560-50-P